DEPARTMENT OF THE INTERIOR

Bureau of Land Management

[LLNVS01000. L13400000.PQ0000.18X; N-95554; MO #4500116808]

Notice of Intent To Prepare a Resource Management Plan Amendment With Associated Environmental Assessment and Notice of Segregation for the Proposed Dry Lake East Designated Leasing Area, Clark County, NV

AGENCY: Bureau of Land Management, Interior.

ACTION: Notice of intent.

SUMMARY: In compliance with the National Environmental Policy Act of 1969, as amended (NEPA), the Bureau of Land Management (BLM), Las Vegas Field Office (LVFO), intends to prepare a Resource Management Plan Amendment and Environmental Assessment (EA) for the proposed Dry Lake East Designated Leasing Area (DLA), approximately 10 miles northeast of Las Vegas, Nevada, and east of the Dry Lake Solar Energy Zone. Through this Notice the BLM is segregating the public lands located within the proposed DLA from appropriation under the public land laws, including the Mining Law, but not the Mineral Leasing or Material Sales Acts, for a period of up to 2 years from the date of publication of this Notice. Publication of this Notice initiates the beginning of the scoping process to solicit public comments and identify issues.

DATES: This Notice initiates the public scoping process and segregation period for the public lands within the proposed DLA. Comments on issues may be submitted in writing until May 14, 2018. The date(s) and location(s) of any meetings will be announced at least 15 days in advance through local news media and the BLM website at: https://go.usa.gov/xnbdU. In order for comments to be fully considered in the BLM's Resource Management Plan Amendment/EA, all comments must be received prior to the close of the scoping period or 15 days after the last public meeting, whichever is later.

ADDRESSES: Submit comments related to the project by any of the following methods:

• Email: BLM_NV_SNDO_DLE_DLA@blm.gov.

• E-planning: https://go.usa.gov/xnbdU.

• Fax: (702) 515-5010, attention Nicollee Gaddis.

• Mail: BLM, Las Vegas Field Office, Attn: Nicollee Gaddis, 4701 North Torrey Pines Drive, Las Vegas, NV 89130-2301.

FOR FURTHER INFORMATION CONTACT: Nicollee Gaddis, Planning & Environmental Coordinator, at telephone (702) 515-5136; or address 4701 North Torrey Pines Drive, Las Vegas, NV 89130-2301; or email ngaddis@blm.gov. Contact Ms. Gaddis to have your name added to the mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The proposed Dry Lake East DLA would be located on approximately 1,800 acres of lands managed by the BLM, located approximately 10 miles northeast of Las Vegas, Nevada and east of the Dry Lake Solar Energy Zone. Designation of the proposed DLA would allow the BLM to conduct a competitive lease auction for solar development.

The purpose of the public scoping process is to determine relevant issues that will influence the scope of the environmental analysis, including alternatives, and guide the process for developing the Resource Management Plan Amendment/EA. At present, the BLM has identified the following preliminary issues: Threatened and endangered species, the Old Spanish National Historic Trail, visual resource impacts, surface water, recreation, socioeconomic effects, and cumulative impacts.

The BLM will consult with Native American tribes on a government-to-government basis in accordance with Executive Order 13175 and other policies. Native American tribal consultation will be conducted in accordance with policy, and tribal concerns will be given due consideration, including impacts on Indian Trust assets. Federal, State, and local agencies, along with other stakeholders that may be interested or affected by the BLM's decision on this project, are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

Segregation: In accordance with 43 CFR 2091.3-1(e) and 43 CFR 2804.25(f), the BLM is segregating the public lands within the proposed DLA from appropriation under the public land laws, including the Mining Law, but not the Mineral Leasing or the Material Sales Acts, for a period of up to 2 years in order to promote the orderly administration of the public lands. This segregation is subject to valid existing mining claims located before this segregation notice. There are currently no mining claims in the identified area. Licenses, permits, cooperative agreements, or discretionary land use authorizations of a temporary nature which would not impact lands identified in this Notice may be allowed with the approval of an authorized officer of the BLM. The segregation period may not exceed 2 years, unless the State Director determines and documents in writing, prior to the expiration of the segregation period, that an extension is necessary for the orderly administration of the public lands. If the State Director determines that an extension is necessary, the BLM will extend the segregation for up to 2 years by publishing a Notice in the Federal Register, prior to the expiration of the initial segregation period.

The lands segregated under this Notice are legally described as follows:

Mount Diablo Meridian, Clark County, Nevada

T. 17 S., R. 64 E.,

Sec. 32, those portions lying east of the right-of-way boundary of NEV 045565 and west of the right-of way boundary of CC 0360.

T. 18 S., R. 64 E.,

Sec. 5, those portions lying west of the right-of way boundary of CC 0360;

Sec. 6, those portions lying east of the right-of-way boundary of NEV 045565;

Sec. 7, lots 12, 18, 19, 20, and 29, NE¼NE¼, S½NE¼, N½SE¼, N½SE¼SE¼, N½SW¼SE¼ and N½SE¼SW¼;

Sec. 8, those portions lying west of the right-of way boundary of CC 0360.

Termination of the segregation occurs on the earliest of the following dates: Upon issuance of a decision by the authorized officer granting, granting with modifications, or denying the application for a Right of Way; automatically at the end of the segregation; or upon publication of a Federal Register Notice of termination of the segregation.

Upon termination of segregation of these lands, all lands subject to this segregation would automatically reopen to appropriation under the public land laws and location under the Mining Law of 1872 (30 U.S.C. 22 et seq.).

Authority: 40 CFR 1506.6, 40 CFR 1506.10, 43 CFR 1610.2, 43 CFR 1610.5, 43 CFR 2091.3-1, and 43 CFR 2804.25(f).

Gayle Marrs-Smith,
Las Vegas Field Manager.

[FR Doc. 2018-07736 Filed 4-12-18; 8:45 am]

BILLING CODE 4310-HC-P